ENVIRONMENTAL PROTECTION AGENCY

[EPA-HQ-OPP-2023-0070; FRL-10841-02-OCSPP]

Pesticide Product Registration; Receipt of Applications for New Active Ingredients February 2023

AGENCY: Environmental Protection Agency (EPA).

ACTION: Notice.

SUMMARY: EPA has received applications to register pesticide products containing active ingredients not included in any currently registered pesticide products. Pursuant to the Federal Insecticide, Fungicide, and Rodenticide Act (FIFRA), EPA is hereby providing notice of receipt and opportunity to comment on these applications.

DATES: Comments must be received on or before April 26, 2023.

ADDRESSES: Submit your comments, identified by docket identification (ID) number EPA-HQ-OPP-2023-0070, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Charles Smith, Biopesticides and Pollution Prevention Division (BPPD) (7511M), main telephone number: (202) 566-1400, email address: BPPDFRNotices@epa.gov; or Dan Rosenblatt, Registration Division (RD) (7505T), main telephone number: (202) 566-2875, email address: RDFRNotices@epa.gov. The mailing address for each contact person is Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. Registration Applications

EPA has received applications to register pesticide products containing active ingredients not included in any currently registered pesticide products. Pursuant to the provisions of FIFRA section 3(c)(4) (7 U.S.C. 136a(c)(4)), EPA is hereby providing notice of receipt and opportunity to comment on these applications. Notice of receipt of these applications does not imply a decision by the Agency on these applications. For actions being evaluated under EPA's public participation process for registration actions, there will be an additional opportunity for public comment on the proposed decisions. Please see EPA's public participation website for additional information on this process (https://www.epa.gov/pesticide-registration/public-participation-process-registration-actions).

Notice of Receipt—New Active Ingredients

File Symbol: 7969-UOA. Docket ID number: EPA-HQ-OPP-2022-0649. Applicant: BASF Corporation, 26 Davis Drive, P.O. Box 13528, Research Triangle Park, NC 27709. Product name: Vulcarus Herbicide. Active ingredient: Herbicide—Trifludimoxazin at 41.53%. Proposed uses: Citrus fruit crop group 10-10; pome fruit crop group 11-10; tree nut crop-group 14-12. Contact: RD.

File Symbol: 7969-UOE. Docket ID number: EPA-HQ-OPP-2022-0649. Applicant: BASF Corporation, 26 Davis Drive, P.O. Box 13528, Research Triangle Park, NC 27709. Product name: TIREXOR Herbicide. Active ingredient: Herbicide—Trifludimoxazin at 41.53%. Proposed uses: Barley; citrus fruit crop group 10-10; corn (field corn, popcorn, sweet corn); legume vegetables included in crop group 6 & 7; chickpea (garbanzo bean), edible beans, edible peas, field peas, lentils, soybean, and vegetable soybean (edamame); millet; oat; peanut; pome fruit crop group 11-10; rye; sorghum; tree nut crop-group 14-12; triticale; wheat. Contact: RD.

File Symbol: 7969-UOG. Docket ID number: EPA-HQ-OPP-2022-0649. Applicant: BASF Corporation, 26 Davis Drive, P.O. Box 13528, Research Triangle Park, NC 27709. Product name: Antorix Herbicide. Active ingredient: Herbicide—Trifludimoxazin at 10.76% and Saflufenacil at 21.51%. Proposed uses: Citrus fruit crops: Calamondin; citrus citron; clementine; citrus hybrids; grapefruit; kumquat; lemon; lime; mandarin (satsuma); orange (sweet and sour); pummelo; tangelo; tangerine; pome fruit crops: Apple; crabapple; loquat; mayhaw; pear; pear, oriental; quince; tree nut crops: Almond; beechnut; Brazil nut; butternut; cashew; chestnut; chinquapin; filbert (hazelnut); hickory nut; macadamia nut; pecan; pistachio; walnut. Contact: RD.

File Symbol: 7969-UOL. Docket ID number: EPA-HQ-OPP-2022-0649. Applicant: BASF Corporation, 26 Davis Drive, P.O. Box 13528, Research Triangle Park, NC 27709. Product name: Voraxor Herbicide. Active ingredient: Herbicide—Trifludimoxazin at 10.76% and Saflufenacil at 21.51%. Proposed uses: Barley; corn (field corn, popcorn, seed corn, sweet corn); legume vegetables: Chickpea (garbanzo bean); field peas; soybean; sorghum; wheat. Contact: RD.

File Symbol: 7969-UOR. Docket ID number: EPA-HQ-OPP-2022-0649. Applicant: BASF Corporation, 26 Davis Drive, P.O. Box 13528, Research Triangle Park, NC 27709. Product name: TIREXOR Herbicide Technical. Active ingredient: Herbicide—Trifludimoxazin at 99.2%. Proposed uses: Cereal grains crop group 15 (except rice); citrus fruit crop group 10-10; foliage of legume vegetables crop group 7; forage, fodder, and straw of cereal grains crop group 16 (except rice); legume vegetables (edible, succulent and dried) crop group 6; peanut; pome fruit crop group 11-10; tree nut crop group 14-12. Contact: RD.

File Symbol: 7969-UOU. Docket ID number: EPA-HQ-OPP-2022-0649. Applicant: BASF Corporation, 26 Davis Drive, P.O. Box 13528, Research Triangle Park, NC 27709. Product name: Rexovor Herbicide. Active ingredient: Herbicide—Trifludimoxazin at 41.53%. Proposed uses: Barley; corn (field corn, popcorn, sweet corn); legume vegetables included in crop group 6 & 7: Chickpea (garbanzo bean); edible beans; edible peas; field peas; lentils; soybean; and vegetable soybean (edamame); millet; oat; peanut; rye; sorghum; triticale; wheat. Contact: RD.

File Symbols: 19713-TGR and 19713-TGN. Docket ID number: EPA-HQ-OPP-2023-0082. Applicant: Drexel Chemical Company; P.O. Box 13327, Memphis, TN 38113-0327. Product names: Sodium Cyanate Technical and Defol Plus. Active ingredient: Herbicide—Sodium Cyanate at 0.99% and 90.35%. Proposed use: Plant Growth Regulator. Contact: BPPD.

File Symbol: 70506-AEA. Docket ID number: EPA-HQ-OPP-2023-0145. Applicant: UPL NA Inc., 630 Freedom Business Center, Suite 402, King of Prussia, PA 19406. Product name: 414-03. Active ingredient: Insecticide and nematicide—Bacillus licheniformis strain 414-01 at 33%. Proposed use: For use as a nematicide seed treatment. Contact: BPPD.

File Symbol: 70506-AEL. Docket ID number: EPA-HQ-OPP-2023-0145. Applicant: UPL NA Inc., 630 Freedom Business Center, Suite 402, King of Prussia, PA 19406. Product name: 414-02. Active ingredient: Insecticide and nematicide—Bacillus licheniformis strain 414-01 at 0.88%. Proposed use: For use as a nematicide seed treatment and soil application for food crops. Contact: BPPD.

File Symbol: 70506-AET. Docket ID number: EPA-HQ-OPP-2023-0145. Applicant: UPL NA Inc., 630 Freedom Business Center, Suite 402, King of Prussia, PA 19406. Product name: Bacillus licheniformis strain 414-01 Technical. Active ingredient: Insecticide and nematicide—Bacillus licheniformis strain 414-01 at 100%. Proposed use: For manufacturing into pesticide products. Contact: BPPD.

File Symbol: 70506-AEU. Docket ID number: EPA-HQ-OPP-2023-0145. Applicant: UPL NA Inc., 630 Freedom Business Center, Suite 402, King of Prussia, PA 19406. Product name: Bacillus licheniformis 414-01 MUP. Active ingredient: Insecticide and nematicide—Bacillus licheniformis strain 414-01 at 33%. Proposed use: For manufacturing into pesticide products. Contact: BPPD.

File Symbol: 95783-E. Docket ID number: EPA-HQ-OPP-2023-0007. Applicant: Danisco US Inc., 925 Page Mill Road, Palo Alto, CA 94304. Product name: BC18-WG. Active ingredients: Fungicide, bactericide, and nematicide—Gluconobacter cerinus strain BC18B at 10% and Hanseniaspora uvarum strain BC18Y at 10%. Proposed use: For seed, soil, and foliar treatment to suppress foliar and soilborne fungal, bacterial, and nematode pests on vegetables, ground nuts, cereal grains, ornamentals, grass and non-grass forages, herbs and spices, oilseed, coffee, hemp, tobacco, hops, sugarcane, and turf. Contact: BPPD.

File Symbol: 95783-R. Docket ID number: EPA-HQ-OPP-2023-0007. Applicant: Danisco US Inc., 925 Page Mill Road, Palo Alto, CA 94304. Product name: BC18-C. Active ingredients: Fungicide, bactericide, and nematicide—Gluconobacter cerinus strain BC18B at 3% and Hanseniaspora uvarum strain BC18Y at 3%. Proposed use: For manufacturing pesticide products. Contact: BPPD.

File Symbol: 98588-R. Docket ID number: EPA-HQ-OPP-2023-0148. Applicant: BioConsortia, Inc., 279 Cousteau Place, Davis, CA 95618. Product name: Crimson. Active ingredient: Fungicide and bactericide—Bacillus velenzensis strain 11604 at 1.00%. Proposed use: For foliar and soil application to suppress foliar and soil phytodiseases on feed and food crops including on vegetables, cereal grains, grass and non-grass forages, citrus fruits, pome fruits, oilseed, and peanut. Contact: BPPD.

Authority: 7 U.S.C. 136 et seq.

Dated: March 21, 2023.
Delores Barber,
Director, Information Technology and Resources Management Division, Office of Program Support.

[FR Doc. 2023-06244 Filed 3-24-23; 8:45 am]

BILLING CODE 6560-50-P